DEPARTMENT OF AGRICULTURE

Office of the Secretary

7 CFR Part 20

RIN 0551-AA51

Export Sales Reporting Requirements

AGENCY: Office of the Secretary, USDA.

ACTION: Final rule.

SUMMARY: This final rule amends the Export Sales Reporting Requirements Regulation to add certain beef to the list of commodities subject to this Regulation. Under this final rule, exporters are required to report on a weekly basis information concerning the quantity, country of destination, and marketing period of shipment for their export sales. Information collected will be aggregated and included in the weekly “U.S. Export Sales” report published by the Foreign Agricultural Service (FAS).

DATES: The final rule is effective August 24, 2001.

FOR FURTHER INFORMATION CONTACT: David Williams, Import Policies and Programs Division, Stop 1021, U.S. Department of Agriculture, 1400 Independence Avenue, SW, Washington, D.C. 20250-1021, or telephone at (202) 720-3273, or e-mail at WilliamsDJ@fas.usda.gov.

SUPPLEMENTARY INFORMATION:

Executive Order 12372

This program is not subject to the provision of Executive Order 12372, which requires intergovernmental consultation with State or local officials (See notice related to 7 CFR part 3015, subpart V, published at 48 FR 29115, June 24, 1983).

Executive Order 12988

This final rule has been reviewed under Executive Order 12988. The provisions of this final rule will not have preemptive effect with respect to any state or local laws, regulations, or policies which conflict with such provisions or which otherwise impede their full implementation. This final rule will not have retroactive effect. Administrative proceedings are not required before parties may seek judicial review.

Executive Order 12866

This final rule is issued in conformance with Executive Order 12866. It has been determined significant for the purposes of E.O. 12866 and, therefore, has been reviewed by the Office of Management and Budget (OMB).

Regulatory Flexibility Act

This final rule should not have a significant economic impact on a substantial number of small entities. Although there are exporters of beef and beef products that operate small businesses, the data required under the final rule are routinely maintained during the normal course of export sales contracting business activity. A copy of this final rule has been sent to the Chief Counsel, Office of Advocacy, U.S. Small Business Administration.

Paperwork Reduction Act

In accordance with provisions of the Paperwork Reduction Act of 1995, the Department of Agriculture (Department) submitted a revised information collection package to OMB (OMB control number 0551-0007) to support the proposed rule. The proposed rule, published on March 3, 2000 (65 FR 11483-11485), required export sales reporting for fresh, chilled, or frozen muscle cuts of beef, and fresh, chilled, or frozen muscle cuts of pork. Since the final rule does not include pork, the Department will request a revision of the information collection to support the final rule.

The Department is required under section 913(b)(1) of Pub. L. 106-78 (the Agriculture, Rural Development, Food and Drug Administration, and Related Agencies Appropriations Act, 2000), to establish a streamlined electronic system to collect export sales information and data for muscle cuts of meat food products in the least intrusive manner possible. Prior to establishing the electronic system, the Department will issue a Federal Register notice soliciting public comments on the requested revision of the information collection, and on the electronic forms and program developed by the Department to provide exporters the opportunity to submit export sales reports for beef electronically. The Department will also request OMB approval of forms that are being developed for electronic submission of export sales reports for fresh, chilled, or frozen muscle cuts of beef. All public comments received with respect to export sales reporting for beef will be considered prior to implementation of an electronic reporting system, and will also become a matter of public record. Copies of the information collection may be obtained from Kimberly Chisley, the Agency Information Collection Coordinator, at (202) 720-2568 or e-mail at Chisley@fas.usda.gov.

Background

Authority

Section 602 of the Agricultural Trade Act of 1978, as amended, requires the reporting of information pertaining to the contract for export sale of certain specified agricultural commodities and other commodities that may be designated by the Secretary. In accordance with § 602, individual weekly reports submitted shall remain confidential and shall be compiled and published in compilation form each week following the week of reporting. Any person who knowingly fails to make a report shall be fined not more than $25,000 or imprisoned for not more than one year, or both.

Regulations at 7 CFR part 20 implement the reporting requirements, and prescribe a system for reporting information pertaining to contracts for export sales. Appendix 1 to the Regulation lists all commodities that are subject to the export sales reporting requirements. Section 921 of Pub. L. 106-78 amended § 602(a)(1) of the Agricultural Trade Act of 1978 (7 U.S.C. 5712(a)(1)) by adding “beef” to the list of specified commodities for which all exporters shall report weekly export sales reporting information.

Export Sales Reporting Requirement for Meat

An Advance Notice of Proposed Rulemaking (ANPR) was published on November 14, 1996 (61 FR 58343-58345) requesting public comments on a proposal to amend 7 CFR part 20 to require weekly export sales reporting for meat and meat products. In response to the ANPR, 57 submissions were received from firms, trade associations, family farms, and interested parties. The majority of the submission (36) were from the poultry industry opposing export sales reporting for poultry and poultry products. Most submissions stated that export sales reporting would be of limited benefit in an industry where there is vertical integration and widespread use of grower contracts. In the poultry sector, contract growers provide labor, and their remuneration is not tied to export sales, but to such factors as feed conversion ratios and mortality rates. Poultry exporters reasoned that reporting costs would outweigh benefits that may be provided to growers. Submissions from the beef and pork industries generally supported export sales reporting as a means of obtaining accurate and timely data on export shipments and export sales.

The proposed rule, published on March 3, 2000 (65 FR 11483-11485), proposed that 7 CFR part 20 be amended to require weekly export sales reporting for fresh, chilled, or frozen muscle cuts of beef, and for fresh, chilled or frozen muscle cuts of pork. The Department received 10 submissions in response to the Federal Register notice. Of these submissions, eight strongly opposed export sales reporting for pork, and two submissions (from outside the pork industry) supported the concept of export sales reporting for beef and pork (one recommended more detailed reporting). The major concerns about extending coverage of the Regulation to pork were that the data required would exceed the level of detail and specific sales information needed to ascertain market conditions for live hogs and pork products; valuable market information would be provided to global competitors; and incentives for innovation and aggressive marketing by U.S. pork exporters would be removed. In addition, since pork customers often have precise demands for quality, trimmings, and cutting specifications, pork exports are often specialized and processed under labor-intensive, highly proprietary programs. Release of such information to foreign competitors could result in lower revenue for U.S. products sold abroad, and increased costs for reporting could lower net return for the whole system, including producers. A few submissions also noted that the Congress had the opportunity to mandate export sales reporting for pork under § 602(a)(1) of Pub. L. 106-78 and elected not to do so. Public comments submitted in response to the proposed rule indicated that pork producers, processors, and exporters had become largely united in opposing export sales reporting. As an alternative to export sales reporting for pork, there was general agreement that implementation of a streamlined and more timely system for release of data from the existing export certificate program would provide information in a way that would not adversely affect export markets.

This final rule amends 7 CFR part 20 to add fresh, chilled, or frozen muscle cuts of beef. For all commodities subject to the weekly reporting requirement of this Regulation, information and data related to the quantity, country destinations, and marketing year of shipments are collected and released on a weekly basis reflecting the “outstanding commitments” of the specified commodities for export. New outstanding quantities are established each week by adding the new export sales activity to the previous outstanding balances and subtracting the current week's shipments plus downward contract adjustments. Although this is not official U.S. trade data, it is widely used as an early indicator of export activity and is available the week following the week of reporting. The addition of fresh, chilled, or frozen muscle cuts of beef to the reporting program should provide the livestock sector with quality up-to-date information and data for preparing more accurate analysis of changing market conditions and providing relevant foreign market demand information to farm-level decision makers. These timely reports should also benefit the private sector as well as the Department in preparing economic forecasts and decisions concerning an orderly flow of beef into the domestic and export markets.

Accordingly, CFR part 20, Export Sales Reporting Requirements is amended as follows:

List of Subjects in 7 CFR Part 20

Agricultural commodities, Exports, Reporting.

Final Rule

Accordingly, 7 CFR part 20 Export Sales Reporting Requirements is amended as follows:

1. The authority citation for part 20 continues to read as follows:

Authority: 7 U.S.C. 5712.

2. Amend Appendix 1 to add the following entry, under the indicated column headings, after the entry for “Cattle, calf, and kip, wet blues—splits, excluding grain splits.”:

Appendix 1 to Part 20—Commodities Subject to Reports, Units of Measure to Be Used in Reporting, and Beginning and Ending Dates of Marketing Years

Commodity to be reported | Units of measure to be used in reporting | Beginning of marketing year | End of marketing year
* * * * *
Beef, fresh, chilled or frozen: muscle cuts of beef | Metric tons | Jan. 1 | Dec. 31.

Signed at Washington, D.C. on July 18, 2001.
Mattie R. Sharpless,
Acting Administrator, Foreign Agricultural Service.

[FR Doc. 01-18548 Filed 7-24-01; 8:45 am]

BILLING CODE 3410-10-P